ENVIRONMENTAL PROTECTION AGENCY

40 CFR Parts 51 and 52

[EPA-HQ-OAR-2006-0903; FRL-8439-6]

RIN 2060-AA02

Public Hearings and Submission of Plans

AGENCY: Environmental Protection Agency (EPA).

ACTION: Final rule.

SUMMARY: This action finalizes changes to EPA's regulations specifying the public hearing requirements for State Implementation Plan (SIP) submissions, identifying the method for submission of SIPs and preliminary review of plans; and the criteria for determining the completeness of plan submission requirements to reflect the changes to the public hearing and plan submission requirements. It also updates the addresses to several Regional offices.

DATES: This rule is effective August 15, 2007.

ADDRESSES: EPA has established a docket for this action under Docket ID No. EPA-HQ-OAR-2006-0903. All documents in the docket are listed on the http://www.regulations.gov Web site. Although listed in the index, some information is not publicly available, i.e., Confidential Business Information or other information whose disclosure is restricted by statute. Certain other material, such as copyrighted material, is not placed on the Internet and will be publicly available only in hard copy form. Publicly available docket materials are available either electronically through http://www.regulations.gov or in hard copy at the Regulatory Development Section, Air Planning Branch, Air, Pesticides and Toxics Management Division, U.S. Environmental Protection Agency, Region 4, 61 Forsyth Street, SW., Atlanta, Georgia 30303-8960. EPA requests that if at all possible, you contact the person listed in the FOR FURTHER INFORMATION CONTACT section to schedule your inspection. The Regional Office's official hours of business are Monday through Friday, 8:30 a.m. to 4:30 p.m. excluding Federal holidays.

FOR FURTHER INFORMATION CONTACT: For general questions concerning this rule, please contact Sean Lakeman, Regulatory Development Section, Air Planning Branch, Air, Pesticides and Toxics Management Division, U.S. Environmental Protection Agency, Region 4, 61 Forsyth Street, SW., Atlanta, Georgia 30303-8960. The telephone number is (404) 562-9043. Mr. Lakeman can also be reached via electronic mail at lakeman.sean@epa.gov.

SUPPLEMENTARY INFORMATION: The information presented in this preamble is organized as follows:

I. Background

II. Comments and Responses

III. Final Action

IV. Statutory and Executive Order Reviews

I. Background

On March 13, 2007, (72 FR 11307) EPA published a proposed rule to change the requirements of 40 CFR 51.102, 51.103 and Appendix V to Part 51. Also, administrative changes to 40 CFR 52.02 and 52.16 to update the addresses for several of the EPA Regional offices were published.

The Clean Air Act (CAA) provides that each revision to a SIP submitted by a State must be adopted by such State “after reasonable notice and public hearing.” EPA's regulations on public hearings in 40 CFR 51.102(a) states “Except as otherwise provided in paragraph (c) of this section, States must conduct one or more public hearings on the following prior to adoption and submission to EPA.” The completeness criteria indicate that a complete submission must include “Evidence that public notice was given of the proposed change consistent with procedures approved by EPA, including the date of publication of such notice” and “Certification that public hearings(s) were held in accordance with the information provided in the public notice and the State's laws and constitution, if applicable.” 40 CFR part 51 Appendix V (2.1)(f) and (g). Following these public hearing requirements, states hold public hearings on any revision to a SIP. Many of these plan revisions are minor or noncontroversial in nature and no member of the public or the regulated community attends or participates in the hearing. These hearings consume both valuable time and resources. Rather than requiring a public hearing for all SIP revisions, EPA proposed to revise these regulations to allow states to determine those actions for which there may be little or no interest by the public or the regulated community and, for those actions, to provide the public the opportunity to request a public hearing. If no request for public hearing is made, then the State would have fulfilled the requirements of 40 CFR 51.102(a) and no public hearing is required to be held.

Whether or not a public hearing is held, the State is required to provide a 30-day period for the written submission of comments from the public.

Forty CFR 51.103(a) and (b) require states to submit “five copies of the plan to the appropriate Regional Office.” The completeness criteria in 40 CFR part 51 Appendix V(2.1)(d) provide that a complete submission must include “indication of the changes made to the existing approved plan, where applicable.” Since the time these regulations were promulgated, electronic access to documents has become readily available and there is no longer the same need for the State to provide multiple printed copies of the submitted plan. EPA proposed to revise these regulations to allow the Regions and the states flexibility to determine the number of printed and electronic copies of the plan submission necessary to ensure full public access to the submitted plan (including identification of the changes made) and to allow the agency to review the plan for approvability. EPA also proposed to revise 40 CFR 52.02 and 52.16, to reflect the current addresses for the Region 3, Region 4, Region 7 and Region 8 offices.

II. Comments and Responses

EPA received comments on the proposed action. The majority of commenters were in support of the proposed action and suggested minor changes to the proposed action. Following is a summary of the comments received and EPA's response to those comments.

Comment: One commenter is concerned that the proposed requirement for states to pre-schedule a public hearing and then cancel it if no one requests the hearing would “(1) create confusion for the public, (2) require the additional expense of more legal notices to notify the public that a hearing has been cancelled, and (3) confuse and disrupt the schedule of court reporters set to cover the hearings.” The commenter suggests that “States only schedule a public hearing on a ‘nonsubstantive or noncontroversial” topic if requested.” The commenter understands that “adoption of a minor amendment or submittal of a minor SIP revision may be delayed by a few weeks if a hearing is not ‘prescheduled” and publicized at the same time as a 30-day comment period.”

The commenter also requests that EPA (1) review and consider the Federal Highway Administration's (FHWA) approach to “administrative modifications” as published in the Federal Register on February 14, 2007 (72 FR 7224); and (2) define minor SIP revisions that would be considered “nonsubstantive or noncontroversial” and would require a 30 day comment period but no public hearing.

Response: This rule revision is designed to provide states some flexibility in the public hearing process. It is EPA's intent to help states reduce the cost of holding public hearings that are not attended by the public, not lengthen the comment period by another 30 days. While one approach is to announce the public hearing when the proposed SIP revision is made available for comment and then to cancel the hearing if not requested, another approach the State may take is the one suggested by the commenter—i.e., the State may allowing the public the opportunity to request a public hearing in the initial notice and then (if a hearing is requested) publish a new 30 day notification (using the same media as the initial 30 day notification) announcing that a public hearing will be held and providing when and where it will be held. We are modifying the regulatory text to allow for this approach.

EPA agrees with the commenter that the cancellation of a public hearing without providing some means for the public to determine if the hearing is cancelled may “create confusion for the public.” To avoid confusion, the State should clearly indicate in the notice how it will inform the public of whether the hearing will be held. One option is to announce the cancellation of a hearing in the same medium as the notice was originally published. Another option would be to include a web address (Uniform Resource Locator) where a cancellation notice will be posted and a phone number the public may call to determine if the public hearing has been cancelled. We are revising the regulatory text to make clear that the State must notify the public that the hearing has been cancelled.

EPA has not used the phrase “nonsubstantive or noncontroversial” in its regulation. Rather, we have simply used that term to describe the types of SIP revisions that states have identified as frequently not attracting attendance at a public hearing. We see no need to define that term since it has no regulatory meaning.

Comment: One commenter requests clarification on whether the language in 40 CFR 51.102(a) that states “If no request for a public hearing is received during the 30-day notification period and the original notice announcing the 30-day notification period clearly states that if no request for a public hearing is received the hearing will be cancelled, then the public hearing may be cancelled.” is mandatory language for public hearing notices or permissive language.

Response: The intent of this language is to allow states the flexibility in the public hearing process. The State may choose whether it wishes to hold a public hearing or whether it wishes to hold a public hearing only if so requested. If it chooses to hold a public hearing only if requested, then the State should use the language in italics above (or substantially similar language) to convey that the hearing will be cancelled if no one requests a hearing.

Comment: One commenter is concerned that “while many of the documents can be provided electronically, there may be occasions where an exhibit or other document may not lend itself to an electronic format.” The commenter requests that a provision be added to the rule that will allow a State to submit five hard copies of any portion of the submittal that cannot be submitted electronically and, for the remainder of the submittal, submit two hard copies and an electronic copy.

Response: We believe that the rule already provides this flexibility. The rule as written allows for the State to submit either “five hard copies or at least two hard copies with an electronic version of the hard copy.” The rule also allows the State in conjunction with the Regional Office (in the statement “unless otherwise agreed to by the State and Regional Office”) to resolve unique situations as they arise.

Comment: One commenter recommends the rule include a requirement for notifying the public when a public hearing will be cancelled and how the public will be notified of the cancellation.

Response: EPA agrees with commenter and has revised the rule to address this concern.

Comment: Several commenters are not sure how the revised 40 CFR 51.102(a) is supposed to work and state “Under both the existing and proposed rule, the comment period consists of 30-days, with the hearing held on the 30th day. As proposed, whether or not the State would actually hold a hearing would not be known by the State until the actual day of the hearing, day 30. How will the public know whether or not a hearing is being held? How would the State notify the public? The public would have no advance notice in which to plan to attend or not and the State would have no time in which to inform the public, whether through the current requirement for a newspaper advertisement, or through other electronic means.” Commenters recommend revising section (a) to read “Except as otherwise provided in paragraphs (c) and (d) of this section and within the 30-day notification period as required by paragraph (e) of this section, States must provide notice, provide the opportunity to submit written comments and allow the public the opportunity to request a public hearing.” A new section (d) was suggested to read “No hearing will be required for any plan change if the change is identified by the State to consist of minor or administrative revisions that are likely to be of little public interest. As required in paragraph (a) of the proposal, the State must provide the public the opportunity to request a public hearing in the notice announcing the 30-day notification period. If the State provides the public the opportunity to request a public hearing and a request is received, the State must provide a new 30-day notification period of the hearing in accordance with paragraph (e) and conduct the hearing at the end of the notification period. If no request for a public hearing is received during the initial 30-day notification period and the original notice announcing the 30-day notification period clearly states that if no request for a public hearing is received there will be no hearing, then no public hearing will be conducted.”

Response: This rule revision is designed to provide states flexibility in the public hearing process. Under this rule states have several options they can employ in the public hearing process. Here are a few examples:

1. Choose to hold a public hearing and provide the public with the meeting logistics (when and where) in the 30-day notification. States may choose to use this option because they believe the revision(s) will draw public interest and therefore plan to hold a public hearing.

2. Provide the public the opportunity to request a hearing. States may choose to use this option for revisions they believe will not elicit public interest. For example, in the initial notice, the State would include a scheduled public hearing 35 days from the date of the notice and inform the public that if a hearing is not requested by the end of the 30th day, the public hearing will be cancelled. If a hearing is not requested the State would post on the 31st day a cancellation notice in the manner announced at the time of the initial notice (e.g., in a newspaper, the State Register, or on a Web site notifying the public that the hearing was cancelled).

3. Publish a 30-day notice to inform the public of revisions to the SIP and requiring that any request for a public hearing must be submitted within 30-days. If a public hearing is requested, the State would publish a new notice providing 30-days notice of the time and place of the public hearing.

We are not adopting the specific language suggested by the commenter. We believe the regulatory language would allow the State to elect to use any of the options noted above.

EPA is not creating an exception to the public hearing requirement for “minor or administrative revisions” in this rule. Such a line-drawing exercise is difficult, as some things that may appear minor or administrative to one person may have more significant implications than initially believed or may not be minor or insignificant to another person. Providing the opportunity for a public hearing for all changes will allow the public (rather than the State) to decide which revisions are minor and administrative and on which members of the public do not need a public hearing and which revisions members of the public believe may have more significance and for which they need a public forum with the State Agency.

Comment: Several commenters objected to the revised language in 40 CFR 51.103(b) regarding requests for preliminary review of plans by EPA. The commenter states: “Currently, we make requests for preliminary review by email with a link to the State Web site where the notice and proposal are located. Requiring additional paper copies goes directly against the intent of this regulatory action. While we understand the need to maintain more formal documentation for the official submittal in paragraph (a), the same requirements for paragraph (b) do not make sense for an optional, voluntary action.” and recommends revising the language to include “or an entirely electronic submittal.”

Response: As an initial matter, the current rule requires that requests be accompanied by five hard copies . Thus, the commenter incorrectly indicates that the EPA's proposed rule is adding constraints. To the contrary, the regulatory language would provide flexibility by allowing requests to “be accompanied by five hard copies or at least two hard copies with an electronic version of the hard copy” and providing latitude with the clause “unless otherwise agreed to by the State and Regional Office.” This provision would allow the State and the Regional Office to agree to an entirely electronic submittal, where appropriate, but retains the requirement for hard copy submissions where no such agreement is reached.

Comment: Several commenters requested that Section 2.1(d) of Appendix V of Part 51—Criteria for Determining the Completeness of Plan Submissions, be revised because “Computer terminology comes and goes, not all systems are entirely compatible, and whatever is specified in the CFR now will likely need to be revisited.” Commenters recommended the language to read “If the State submits an electronic copy, it must be an exact duplicate of the hard copy, including signed documents, with changes indicated. The specific electronic formats to be used are to be agreed upon by the State and the Regional Office. Files need to be submitted in manageable amounts (e.g., a file for each section or chapter, depending on size, and separate files for each distinct document) as agreed to by the State and Regional Office.”

Response: EPA agrees with the commenters that computer technology will continue to change, however, revising the language is not needed. EPA believes it has provided enough latitude with the clause “unless otherwise agreed to by the State and Regional Office” to address future changes in media.

Comment: Several commenters also encourage EPA to provide the same flexibility for 111(d)/129 plans.

Response: The regulatory provisions addressed in the proposed rule concern SIP submissions and thus are not the appropriate place to address 111(d)/129 plans. EPA will take the commenter's request under advisement and may consider similar treatment for 111(d)/129 plans may be considered at a later time.

Comment: The commenter requests “that the requirements for reasonable public notice, as defined in 40 CFR 51.102(d), be strengthened to ensure that the public, and in particular the `regulated community,' are made aware of the proposed plan or plan revision and associated opportunity to submit comments and/or request a public hearing.” The commenter believes “that when a proposed plan or plan revision involves a control measure that the `regulated community' is responsible for implementing, states should be required to explicitly communicate with the affected regulated community to ensure that they are aware of the proposed plan or plan revision and the associated opportunity to submit comments and/or request a public hearing.” Also, the commenter states that “the `prominent advertisement' requirement has typically been met by placing a notice of the public hearing in the State register. Such notices may satisfy the State's requirements for public notice, but in our view they fall far short of reasonable public notice if the proposed plan or plan revision involves a control measure that a regulated community is responsible for implementing.” The commenter wants the following statement added to 40 CFR 51.102(d) “Notification directly to any regulated community responsible for implementing a control measure included in the proposed plan or plan revision.”

Response: While we agree that ensuring that the regulated community is aware of planning obligations that may affect them, the recommendation is not practicable. Moreover, our experience is that the states attempt to diligently work with the regulated community (and all stakeholders) when developing SIPs. As and initial matter, the recommendation is not practical because it is unclear. Would it impose a burden on the State to contact and provide direct notification to any source that may potentially be affected by regulation? If so, we think the burden would be impossible for the State to meet in many circumstances. Some source categories could include 100's or 1000's of sources and the State would not be able to identify all such sources. Additionally, there may be issues of whom the State is required to notify. For example, if a State made changes to its inspection and maintenance program, would it be obligated to provide direct notification to every owner of a car registered on the State? Also, there may be countless service stations that perform these tests. Would the State be required to maintain a list of every such station? As noted, we believe States generally work with the regulated community in developing programs that may affect them. Typically, such work is a necessary component of developing control strategies since States must understand how sources operate, including the types of equipment they use, and what are the types and amount of emissions. We continue to encourage States to improve outreach efforts in developing SIPs and we believe the use of the internet has provided greater public access to information.

Comment: One commenter requests that EPA change the requirement for two hard copies to one hard copy.

Response: We believe a change is unnecessary because the rule provides flexibility for the State and Regional Office to agree on one hard copy and an electronic copy, if they determine that is appropriate.

III. Final Action

EPA is finalizing the revisions as stated in the proposed rule and has added a provision to capture the cancellation of public hearings, in order to reduce the possibility of confusion regarding whether a public hearing will be held. The provision will require States to include in the initial notice announcing the 30 day notification period, the method they will use to notify the public of whether the hearing will be held and to include a phone number where the public can call to determine if the public hearing has been cancelled.

IV. Statutory and Executive Order Reviews

A. Executive Order 12866: Regulatory Planning and Review

This action is not a “significant regulatory action” under the terms of Executive Order (EO) 12866 (58 FR 51735, October 4, 1993) and is therefore not subject to review under the EO.

B. Paperwork Reduction Act

This rule does not impose an information collection burden under the provisions of the Paperwork Reduction Act, 44 U.S.C. 3501 et seq. This action modifies the public hearing requirements for SIPs by clarifying that public hearings need only be held when requested by the public rather than automatically and provides a less costly alternative to the pre-existing requirement to submit five printed copies of each SIP revision. The present action does not establish any new information collection burden. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. An agency may not conduct or sponsor, and a person is not required to respond to a collection of information unless it displays a currently valid OMB control number. The OMB control numbers for EPA's regulations in 40 CFR are listed in 40 CFR part 9.

C. Regulatory Flexibility Act

The Regulatory Flexibility Act (RFA) generally requires an agency to prepare a regulatory flexibility analysis of any rule subject to notice and comment rulemaking requirements under the Administrative Procedures Act or any other statute unless the agency certifies the rule will not have a significant economic impact on a substantial number of small entities. Small entities include small businesses, small organizations, and small governmental jurisdictions.

For purposes of assessing the impacts of today's action on small entities, small entity is defined as: (1) A small business that is a small industrial entity as defined in the U.S. Small Business Administration (SBA) size standards. (See 13 CFR 121.); (2) a small governmental jurisdiction that is a government of a city, county, town, school district or special district with a population of less than 50,000; and (3) a small organization that is any not-for-profit enterprise which is independently owned and operated and is not dominant in its field. This action modifies the public hearing requirements that apply to states for purposes of submitting SIPs. It clarifies that public hearings need only be held when requested by the public rather than automatically and provides a less costly alternative to the pre-existing requirement to submit five printed copies of each SIP revision. After considering the economic impacts of today's action on small entities, I certify that this rule will not have a significant economic impact on a substantial number of small entities.

D. Unfunded Mandates Reform Act

Title II of the Unfunded Mandates Reform Act of 1995 (UMRA), Public Law 104-4, establishes requirements for Federal agencies to assess the effects of their regulatory actions on State, local, and Tribal governments and the private sector. Under section 202 of the UMRA, EPA generally must prepare a written statement, including a cost-benefit analysis, for proposed and final rules with “Federal mandates” that may result in expenditures to State, local, and Tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation to why that alternative was not adopted. Before EPA establishes any regulatory requirements that may significantly or uniquely affect small governments, including Tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

Today's action does not include a Federal mandate within the meaning of UMRA that may result in expenditures of $100 million or more in any one year by either State, local, or Tribal governments in the aggregate or to the private sector, and therefore, is not subject to the requirements of sections 202 and 205 of the UMRA. Also, EPA has determined that this rule contains no regulatory requirements that might significantly or uniquely affect small governments and therefore, is not subject to the requirements of sections 203. This action modifies the public hearing requirements for SIPs by clarifying that public hearings need only be held when requested by the public rather than automatically and provides a less costly alternative to the pre-existing requirement to submit five printed copies of each SIP revision.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This final rule does not have federalism implications. It will not have substantial direct effects on the States, on the relationship between the national government and the States, or on the distribution of power and responsibilities among the various levels of government, as specified in Executive Order 13132. This action modifies the public hearing requirements for SIPs by clarifying that public hearings need only be held when requested by the public rather than automatically and provides a less costly alternative to the pre-existing requirement to submit five printed copies of each SIP revision. Thus, Executive Order 13132 does not apply to this rule.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” This action does not have “Tribal implications” as specified in Executive Order 13175. This action modifies the public hearing requirements for SIPs by clarifying that public hearings need only be held when requested by the public rather than automatically and provides a less costly alternative to the pre-existing requirement to submit five printed copies of each SIP revision. The Clean Air Act and the Tribal Authority Rule establish the relationship of the Federal government and Tribes in developing plans to attain the NAAQS, and this rule does nothing to modify that relationship. Thus, Executive Order 13175 does not apply to this rule.

G. Executive Order 13045: Protection of Children From Environmental Health and Safety Risks

Executive Order 13045: “Protection of Children From Environmental Health and Safety Risks” (62 FR 19885, April 23, 1997) applies to any rule that (1) is determined to be “economically significant” as defined under Executive Order 12866, and (2) concerns an environmental health or safety risk that EPA has reason to believe may have disproportionate effect on children. If the regulatory action meets both criteria, the Agency must evaluate the environmental health or safety effects of the planned rule on children, and explain why the planned regulation is preferable to other potentially effective and reasonably feasible alternatives considered by the Agency. This action is not subject to Executive Order 13045 because it is not economically significant as defined in E.O. 12866, and because the Agency does not have reason to believe the environmental health risks or safety risks addressed by this rule present a disproportionate risk to children. This action modifies the public hearing requirements for SIPs by clarifying that public hearings need only be held when requested by the public rather than automatically and provides a less costly alternative to the pre-existing requirement to submit five printed copies of each SIP revision.

H. Executive Order 13211: Actions That Significantly Affect Energy Supply, Distribution, or Use

This action is not subject to Executive Order 13211, “Actions That Significantly Affect Energy Supply, Distribution, or Use,” (66 FR 28355, May 22, 2001) because it is not a significant regulatory action under Executive Order 12866.

I. National Technology Transfer Advancement Act

As noted in the proposed rule, Section 12(d) of the National Technology Transfer Advancement Act of 1995 (NTTAA), Pub. L. No. 104-113, section 12(d) (15 U.S.C. 272 note) directs EPA to use voluntary consensus standards (VCS) in its regulatory activities unless to do so would be inconsistent with applicable law or otherwise impractical. Voluntary consensus standards are technical standards (e.g., materials specifications, test methods, sampling procedures, and business practices) that are developed or adopted by VCS bodies. The NTTAA directs EPA to provide Congress, through OMB, explanations when the Agency decides not to use available and applicable VCS. This action does not involve technical standards. Therefore, EPA did not consider the use of any VCS.

J. Executive Order 12898: Federal Actions To Address Environmental Justice in Minority Populations and Low-Income Populations

Executive Order 12898 (59 FR 7629, February 16, 1994) establishes Federal executive policy on environmental justice. Its main provision directs federal agencies, to the greatest extent practicable and permitted by law, to make environmental justice part of their mission by identifying and addressing, as appropriate, disproportionately high and adverse human health or environmental effects of their programs, policies, and activities on minority populations and low-income populations in the United States.

EPA has determined that this final rule will not have disproportionately high and adverse human health or environmental effects on minority or low-income populations because it does not affect the level of protection provided to human health or the environment. This action modifies the public hearing requirements for SIPs by clarifying that public hearings need only be held when requested by the public rather than automatically and provides a less costly alternative to the pre-existing requirement to submit five printed copies of each SIP revision.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This action will be effective August 15, 2007.

L. Petitions for Judicial Review

Under section 307(b)(1) of the CAA, petitions for judicial review of this action must be filed in the United States Court of Appeals for the District of Columbia Circuit by September 14, 2007. Filing a petition for reconsideration by the Administrator of this final rule does not affect the finality of this rule for the purposes of judicial review nor does it extend the time within which a petition for judicial review must be filed, and shall not postpone the effectiveness of such rule or action. This action may not be challenged later in proceedings to enforce its requirements. See CAA Section 307(b)(2).

List of Subjects in 40 CFR Parts 51 and 52

Environmental protection, Administrative practice and procedure, Air pollution control, Carbon monoxide, Intergovernmental relations, Lead, Nitrogen dioxide, Ozone, Particulate matter, Reporting and recordkeeping requirements, Sulfur oxides, Transportation, Volatile organic compounds.

Dated: July 10, 2007.
Stephen L. Johnson,
Administrator.

Accordingly, 40 CFR parts 51 and 52 are amended as follows:

PART 51—[AMENDED]

1. The authority citation for part 51 continues to read as follows:

Authority: 23 U.S.C. 101; 42 U.S.C. 7401-7671q.

2. Section 51.102 is amended by revising paragraphs (a) introductory text and (f) to read as follows:

§ 51.102 Public hearings.

(a) Except as otherwise provided in paragraph (c) of this section and within the 30 day notification period as required by paragraph (d) of this section, States must provide notice, provide the opportunity to submit written comments and allow the public the opportunity to request a public hearing. The State must hold a public hearing or provide the public the opportunity to request a public hearing. The notice announcing the 30 day notification period must include the date, place and time of the public hearing. If the State provides the public the opportunity to request a public hearing and a request is received the State must hold the scheduled hearing or schedule a public hearing (as required by paragraph (d) of this section). The State may cancel the public hearing through a method it identifies if no request for a public hearing is received during the 30 day notification period and the original notice announcing the 30 day notification period clearly states: If no request for a public hearing is received the hearing will be cancelled; identifies the method and time for announcing that the hearing has been cancelled; and provides a contact phone number for the public to call to find out if the hearing has been cancelled. These requirements apply for adoption and submission to EPA of:

* * * * *

(f) The State must submit with the plan, revision, or schedule, a certification that the requirements in paragraph (a) and (d) of this section were met. Such certification will include the date and place of any public hearing(s) held or that no public hearing was requested during the 30 day notification period.

* * * * *

3. Section 51.103 is revised to read as follows:

§ 51.103 Submission of plans, preliminary review of plans.

(a) The State makes an official plan submission to EPA only when the submission conforms to the requirements of appendix V to this part, and the State delivers five hard copies or at least two hard copies with an electronic version of the hard copy (unless otherwise agreed to by the State and Regional Office) of the plan to the appropriate Regional Office, with a letter giving notice of such action. If the State submits an electronic copy, it must be an exact duplicate of the hard copy.

(b) Upon request of a State, the Administrator will provide preliminary review of a plan or portion thereof submitted in advance of the date such plan is due. Such requests must be made in writing to the appropriate Regional Office, must indicate changes (such as, redline/strikethrough) to the existing approved plan, where applicable and must be accompanied by five hard copies or at least two hard copies with an electronic version of the hard copy (unless otherwise agreed to by the State and Regional Office). Requests for preliminary review do not relieve a State of the responsibility of adopting and submitting plans in accordance with prescribed due dates.

4. Appendix V to Part 51 is amended by revising paragraphs (d) and (g) under Section 2.1 to read as follows:

Appendix V of Part 51—Criteria for Determining the Completeness of Plan Submissions

* * * * *

2.1. * * *

(d) A copy of the actual regulation, or document submitted for approval and incorporation by reference into the plan, including indication of the changes made (such as, redline/strikethrough) to the existing approved plan, where applicable. The submittal shall be a copy of the official State regulation/document signed, stamped and dated by the appropriate State official indicating that it is fully enforceable by the State. The effective date of the regulation/document shall, whenever possible, be indicated in the document itself. If the State submits an electronic copy, it must be an exact duplicate of the hard copy with changes indicated, signed documents need to be in portable document format, rules need to be in text format and files need to be submitted in manageable amounts (e.g., a file for each section or chapter, depending on size, and separate files for each distinct document) unless otherwise agreed to by the State and Regional Office.

* * * * *

(g) Certification that public hearing(s) were held in accordance with the information provided in the public notice and the State's laws and constitution, if applicable and consistent with the public hearing requirements in 40 CFR 51.102.

* * * * *

PART 52—[AMENDED]

5. The authority citation for part 52 continues to read as follows:

Authority: 42 U.S.C. 7401, et seq.

6. Section 52.02 is amended by revising paragraphs (d)(2)(iii), (d)(2)(iv), (d)(2)(vii), and (d)(2)(viii) to read as follows:

§ 52.02 Introduction.

* * * * *

(d) * * *

(2) * * *

(iii) Delaware, District of Columbia, Pennsylvania, Maryland, Virginia, and West Virginia. Environmental Protection Agency, Region 3, 1650 Arch Street, Philadelphia, PA 19103-2029.

(iv) Alabama, Florida, Georgia, Kentucky, Mississippi, North Carolina, South Carolina, and Tennessee. Environmental Protection Agency, Region 4, 61 Forsyth Street, Atlanta, Georgia 30303.

* * * * *

(vii) Iowa, Kansas, Missouri, and Nebraska. Environmental Protection Agency, Region 7, 901 North 5th Street, Kansas City, KS 66101.

(viii) Colorado, Montana, North Dakota, South Dakota, Utah, and Wyoming. Environmental Protection Agency, Region 8, 1595 Wynkoop Street, Denver, CO 80202-1129.

* * * * *

7. Section 52.16 is amended by revising paragraphs (b)(3), (b)(4), (b)(7) and (b)(8) to read as follows:

§ 52.16 Submission to Administrator.

* * * * *

(b) * * *

(3) Delaware, District of Columbia, Pennsylvania, Maryland, Virginia, and West Virginia. EPA Region 3, 1650 Arch Street, Philadelphia, PA 19103-2029.

(4) Alabama, Florida, Georgia, Kentucky, Mississippi, North Carolina, South Carolina, and Tennessee. EPA Region 4, 61 Forsyth Street, Atlanta, Georgia 30303.

* * * * *

(7) Iowa, Kansas, Missouri, and Nebraska. EPA Region 7, 901 North 5th Street, Kansas City, KS 66101.

(8) Colorado, Montana, North Dakota, South Dakota, Utah, and Wyoming. EPA, Region 8, 1595 Wynkoop Street, Denver, CO 80202-1129.

* * * * *

[FR Doc. E7-13716 Filed 7-13-07; 8:45 am]

BILLING CODE 6560-50-P